DEPARTMENT OF ENERGY

Federal Energy Regulatory Commission

Combined Notice of Filings #1

Take notice that the Commission received the following electric corporate filings:

Docket Numbers: EC14-53-000.

Applicants: BIF II US Gen AcquireCo LLC, Safe Harbor Water Power Corp., LSP Safe Harbor Holdings, LLC.

Description: Joint Application for Authorization Under Section 203 of the Federal Power Act and Requests for Confidential Treatment and Waivers of LSP Safe Harbor Holdings, LLC, et. al.

Filed Date: 2/7/14.

Accession Number: 20140207-5017.

Comments Due: 5 p.m. ET 2/28/14.

Take notice that the Commission received the following exempt wholesale generator filings:

Docket Numbers: EG14-25-000.

Applicants: Marsh Hill Energy LLC.

Description: Notice of Self-Certification of Exempt Wholesale Generator Status of Marsh Hill Energy LLC.

Filed Date: 2/4/14.

Accession Number: 20140204-5107.

Comments Due: 5 p.m. ET 2/25/14.

Docket Numbers: EG14-26-000.

Applicants: OCI Solar Power LLC.

Description: EWG Self-Certification of EG of the OCI Alamo 1 LLC facility by OCI Solar Power LLC.

Filed Date: 2/6/14.

Accession Number: 20140206-5097.

Comments Due: 5 p.m. ET 2/27/14.

Take notice that the Commission received the following electric rate filings:

Docket Numbers: ER11-1933-003.

Applicants: Green Mountain Power Corporation.

Description: Updated Market Power Analysis in northeast region of Green Mountain Power Corporation.

Filed Date: 2/7/14.

Accession Number: 20140207-5089.

Comments Due: 5 p.m. ET 4/8/14.

Docket Numbers: ER14-460-002.

Applicants: Appalachian Power Company.

Description: 20140207 TCC At K Revision to be effective 2/14/2014.

Filed Date: 2/7/14.

Accession Number: 20140207-5092.

Comments Due: 5 p.m. ET 2/28/14.

Docket Numbers: ER14-1269-000.

Applicants: AES Alamitos, LLC.

Description: Order 784 Tariff Filing to be effective 3/7/2014.

Filed Date: 2/6/14.

Accession Number: 20140206-5112.

Comments Due: 5 p.m. ET 2/27/14.

Docket Numbers: ER14-1270-000.

Applicants: PJM Interconnection, L.L.C.

Description: Revisions to PJM OATT & OA re PJM Member Data Communications to be effective 4/7/2014.

Filed Date: 2/6/14.

Accession Number: 20140206-5113.

Comments Due: 5 p.m. ET 2/27/14.

Docket Numbers: ER14-1271-000.

Applicants: AES Armenia Mountain Wind, LLC.

Description: Order 784 Tariff Amendment to be effective 2/7/2014.

Filed Date: 2/6/14.

Accession Number: 20140206-5115.

Comments Due: 5 p.m. ET 2/27/14.

Docket Numbers: ER14-1272-000.

Applicants: AES Beaver Valley, LLC.

Description: Order 784 Tariff Amendment to be effective 2/7/2014.

Filed Date: 2/6/14.

Accession Number: 20140206-5116.

Comments Due: 5 p.m. ET 2/27/14.

Docket Numbers: ER14-1273-000.

Applicants: AES ES Tait, LLC.

Description: Order 784 Tariff Amendment to be effective 2/7/2014.

Filed Date: 2/6/14.

Accession Number: 20140206-5117.

Comments Due: 5 p.m. ET 2/27/14.

Docket Numbers: ER14-1274-000.

Applicants: AES Laurel Mountain, LLC.

Description: Order 784 Tariff Amendment to be effective 2/7/2014.

Filed Date: 2/6/14.

Accession Number: 20140206-5120.

Comments Due: 5 p.m. ET 2/27/14.

Docket Numbers: ER14-1275-000.

Applicants: AES Redondo Beach, L.L.C.

Description: Order 784 Tariff Amendment to be effective 2/7/2014.

Filed Date: 2/6/14.

Accession Number: 20140206-5121.

Comments Due: 5 p.m. ET 2/27/14.

Docket Numbers: ER14-1276-000.

Applicants: Mountain View Power Partners, LLC.

Description: Order 784 Tariff Amendment to be effective 2/7/2014.

Filed Date: 2/6/14.

Accession Number: 20140206-5123.

Comments Due: 5 p.m. ET 2/27/14.

Docket Numbers: ER14-1277-000.

Applicants: Mountain View Power Partners IV, LLC.

Description: Order 784 Tariff Amendment to be effective 2/7/2014.

Filed Date: 2/6/14.

Accession Number: 20140206-5126.

Comments Due: 5 p.m. ET 2/27/14.

Docket Numbers: ER14-1278-000.

Applicants: AES Huntington Beach, L.L.C.

Description: Order 784 Tariff Amendment to be effective 2/7/2014.

Filed Date: 2/6/14.

Accession Number: 20140206-5129.

Comments Due: 5 p.m. ET 2/27/14.

Docket Numbers: ER14-1279-000.

Applicants: Arizona Public Service Company.

Description: Rate Schedule No. 271 Agency Agreement between APS and SCE to be effective 2/28/2014.

Filed Date: 2/7/14.

Accession Number: 20140207-5000.

Comments Due: 5 p.m. ET 2/28/14.

Docket Numbers: ER14-1280-000.

Applicants: Dogwood Energy LLC.

Description: Amendment to December 30, 2013 Market-Based Rate Tariff Filing to be effective 3/1/2014.

Filed Date: 2/6/14.

Accession Number: 20140206-5135.

Comments Due: 5 p.m. ET 2/27/14.

Docket Numbers: ER14-1281-000.

Applicants: Powerex Corp.

Description: Amendment to Powerex Corp. Rate Schedule No. 1 to be effective 4/7/2014.

Filed Date: 2/6/14.

Accession Number: 20140206-5136.

Comments Due: 5 p.m. ET 2/27/14.

Docket Numbers: ER14-1282-000.

Applicants: Liberty Utilities (Granite State Electric) Corp.

Description: Market-Based Sales Tariff to be effective 2/8/2014.

Filed Date: 2/7/14.

Accession Number: 20140207-5035.

Comments Due: 5 p.m. ET 2/28/14.

Docket Numbers: ER14-1283-000.

Applicants: Midcontinent Independent System Operator, Inc., Entergy Services, Inc.

Description: 2014-02-07_Rate Sch 39_ETI-ETEC JPZ Agr to be effective 12/19/2013.

Filed Date: 2/7/14.

Accession Number: 20140207-5040.

Comments Due: 5 p.m. ET 2/28/14.

Docket Numbers: ER14-1284-000.

Applicants: ISO New England Inc., New England Power Pool Participants Committee.

Description: Reliability-Related Information Policy Changes to be effective 4/8/2014.

Filed Date: 2/7/14.

Accession Number: 20140207-5079.

Comments Due: 5 p.m. ET 2/28/14.

Docket Numbers: ER14-1284-001.

Applicants: ISO New England Inc., New England Power Pool Participants Committee.

Description: Reliability-Related Information Policy Changes to be effective 4/8/2014.

Filed Date: 2/7/14.

Accession Number: 20140207-5088.

Comments Due: 5 p.m. ET 2/28/14.

Docket Numbers: ER14-1285-000.

Applicants: Liberty Utilities (Granite State Electric) Corp.

Description: Notice of Cancellation to be effective 2/8/2014.

Filed Date: 2/7/14.

Accession Number: 20140207-5080.

Comments Due: 5 p.m. ET 2/28/14.

Docket Numbers: ER14-1286-000.

Applicants: New York Independent System Operator, Inc., Niagara Mohawk Power Corporation.

Description: TO LGIA between National Grid and Carr Street SA no. 2076. to be effective 12/16/2013.

Filed Date: 2/7/14.

Accession Number: 20140207-5087.

Comments Due: 5 p.m. ET 2/28/14.

Docket Numbers: ER14-1287-000.

Applicants: Southern California Edison Company.

Description: LGIAs with Alta Wind Q97, LLC and Alta Wind Q153, LLC to be effective 4/9/2014.

Filed Date: 2/7/14.

Accession Number: 20140207-5091.

Comments Due: 5 p.m. ET 2/28/14.

Docket Numbers: ER14-1288-000.

Applicants: Liberty Utilities (Granite State Electric) Corp.

Description: Notice of Succession to be effective 2/8/2014.

Filed Date: 2/7/14.

Accession Number: 20140207-5093.

Comments Due: 5 p.m. ET 2/28/14.

Take notice that the Commission received the following land acquisition reports:

Docket Numbers: LA13-1-000; LA13-2-000; LA13-3-000.

Applicants: NextEra Energy Companies.

Description: Amending December 19, 2013, et. al., Quarterly Land Acquisition Reports of the NextEra Energy Companies.

Filed Date: 1/29/14.

Accession Number: 20140129-5248.

Comments Due: 5 p.m. ET 2/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2014.
Nathaniel J. Davis, Sr.,
Deputy Secretary.

[FR Doc. 2014-03418 Filed 2-14-14; 8:45 am]

BILLING CODE 6717-01-P